DEPARTMENT OF ENERGY

Federal Energy Regulatory Commission

[Docket No. EC01-34.000, et al.]

Delmarva Power & Light Company, et al.; Electric Rate and Corporate Regulation Filings

December 8, 2000.

Take notice that the following filings have been made with the Commission:

1. Delmarva Power & Light Company and Conective Energy Supply, Inc.

[Docket No. EC01-34-000]

Take notice that on December 1, 2000, Delmarva Power & Light Company (Delmarva) and Conectiv Energy Supply, Inc. (CESI) (collectively, the Applicants) tendered an application under the provisions of Section 203 of the Federal Power Act involving the assignment of Delmarva's rights and obligations under two wholesale power sales agreements (Agreements) to CESI.

The Applicants state that copies of this joint application have been served upon Delmarva's counter parties in Agreements and the pertinent state regulatory commissions.

Comment date: December 22, 2000, in accordance with Standard Paragraph E at the end of this notice.

2. United States Department of Energy—Western Area Power Administration

[Docket No. EF01-5111-000]

Take notice that on December 1, 2000, the Deputy Secretary of the Department of Energy, by Rate Order No. WAPA-88, did confirm and approve on an interim basis, to be effective on January 1, 2001, the Western Area Power Administration's (Western) formula rates under Rate Schedules CAP-FT1, CAP-NFT1, and CAP-NITS1 for the Central Arizona Project 115-kV/230-kV Transmission System.

The formula rates under Rate Schedules CAP-FT1, CAP-NFT1, and CAP-NITS1 will be in effect pending the Federal Energy Regulatory Commission's (Commission) approval of these or of substitute rates on a final basis, ending December 31, 2005.

Comment date: December 29, 2000, in accordance with Standard Paragraph E at the end of this notice.

3. PSEG Fossil LLC

[Docket No. EG01-42-000]

Take notice that on December 6, 2000, PSEG Fossil LLC (Applicant), having its principal place of business at 80 Park Plaza, T-16, Newark, NJ 07102, filed with the Federal Energy Regulatory Commission (FERC or the Commission) an application for redetermination of exempt wholesale generator (EWG) status pursuant to Part 365 of the Commission's regulations.

The Applicant is a limited liability company formed under the laws of the State of Delaware. The Applicant is engaged, directly or indirectly through an affiliate as defined in Section 2(a)(11)(B) of the Public Utility Holding Company Act of 1935 (“PUHCA”), exclusively in owning or owning and operating eligible electric facilities and participating in project development activities incidental to such eligible electric facilities as authorized under PUHCA. The Applicant owns and operates eligible facilities located in Pennsylvania and New Jersey.

Comment date: December 29, 2000, in accordance with Standard Paragraph E at the end of this notice. The Commission will limit its consideration of comments to those that concern the adequacy or accuracy of the application.

4. PPL Montour, LLC

[Docket No. EG01-43-000]

Take notice that on December 5, 2000, PPL Montour, LLC (PPL Montour) tendered for filing an Application for Redetermination of Status as an Exempt Wholesale Generator. On December 6, 2000, PPL Montour filed an amendment to its application.

Comment date: December 29, 2000, in accordance with Standard Paragraph E at the end of this notice. The Commission will limit its consideration of comments to those that concern the adequacy or accuracy of the application.

5. Reliant Energy Mid-Atlantic Power Holdings, L.L.C.

[Docket No. EG01-44-000]

Take notice that on December 4, 2000, Reliant Energy Mid-Atlantic Power Holdings, L.L.C. (Applicant), having its principal place of business at Johnstown, Pennsylvania, filed with the Federal Energy Regulatory Commission (FERC or the Commission) an application for redetermination of exempt wholesale generator (EWG) status pursuant to Part 365 of the Commission's regulations.

The Applicant is a limited liability company formed under the laws of the State of Delaware. Applicant is engaged, directly or indirectly through an affiliate as defined in Section 2(a)(11)(B) of the Public Utility Holding Company Act of 1935 (PUHCA), exclusively in owning or both owning and operating eligible electric facilities activities incidental to such eligible electric facilities as authorized under PUHCA. Applicant will enter into a lease agreement incidental to its ownership interest in the Keystone Electric Steam Station.

Comment date: December 29, 2000, in accordance with Standard Paragraph E at the end of this notice. The Commission will limit its consideration of comments to those that concern the adequacy or accuracy of the application.

6. Constellation Power Source Generation, Inc.

[Docket No. EG01-45-000]

Take notice that on December 5, 2000, Constellation Power Source Generation, Inc. (Applicant), having its principal place of business at 111 Market Place, Suite 500, Baltimore, Maryland 21202, filed with the Federal Energy Regulatory Commission (FERC or the Commission) an application for redetermination of exempt wholesale generator (EWG) status pursuant to Part 365 of the Commission's regulations. The Applicant is a Maryland corporation and is engaged, directly or indirectly through an affiliate as defined in Section 2(a)(11)(B) of the Public Utility Holding Company Act of 1935 (“PUHCA”), exclusively in owning or owning and operating eligible electric facilities and participating in project development activities incidental to such eligible electric facilities as authorized under PUHCA. The Applicant owns and operates eligible facilities located in Maryland and Pennsylvania.

Comment date: December 29, 2000, in accordance with Standard Paragraph E at the end of this notice.

7. Western Resources, Inc.

[Docket No. ER01-592-000]

Take notice that on December 5, 2000, Western Resources, Inc. (Western Resources), tendered for filing a Notification of Change in Status and Petition for Acceptance of Revised Market Rate Schedules in anticipation of Western Resources' proposed merger with Public Service Company of New Mexico, all as more fully described in the Application.

Comment date: December 26, 2000, in accordance with Standard Paragraph E at the end of this notice.

8. California Independent System Operator Corporation

[Docket No. ER01-594-000]

Take notice that on December 5, 2000, the California Independent System Operator Corporation, tendered for filing a Meter Service Agreement for ISO Metered Entities between the ISO and Riverside County Waste Management Department for acceptance by the Commission.

The ISO states that this filing has been served on Riverside County Waste Management Department and the California Public Utilities Commission.

The ISO is requesting waiver of the 60-day notice requirement to allow the Meter Service Agreement for ISO Metered Entities to be made effective November 30, 2000.

Comment date: December 26, 2000, in accordance with Standard Paragraph E at the end of this notice.

9. Alabama Electric Marketing, LLC

[Docket No. ER01-596-000]

Take notice that on December 5, 2000, Alabama Electric Marketing, LLC, 1044 North 115 Street, Suite 400, Omaha, Nebraska 68154 (AEM), tendered for filing with the Federal Energy Regulatory Commission an application for blanket authorization and certain waivers under regulations of the Commission, and for an order accepting its FERC Electric Rate Schedule No. 1 to be effective the earlier of February 5, 2001, or the date of a Commission order granting approval of this Rate Schedule.

AEM intends to engage in electric power and energy transactions as a marketer and a broker. In transactions where AEM purchases power, including capacity and related services from electric utilities, qualifying facilities, and independent power producers, and resells such power to other purchasers, AEM will be functioning as a marketer. In AEM's marketing transactions, AEM proposes to charge rates mutually agreed upon by the parties. In transactions where AEM does not take title to electric power and/or energy, AEM will be limited to the role of a broker and will charge a fee for its services. AEM is not in the business of producing electric power nor does it contemplate acquiring title to any electric power transmission facilities.

Comment date: December 26, 2000, in accordance with Standard Paragraph E at the end of this notice.

10. Central Power and Light Company

[Docket No. ER01-279-001]

Take notice that on December 5, 2000, Central Power and Light Company (CPL) tendered for filing First Revised Rate Schedule No. 104, an Interconnection Agreement between CPL and Sharyland Utilities, L.P. (Sharyland), to comply with the Commission's order of November 20, 2000 in the above-referenced docket.

Central Power and Light Company has served a copy of this compliance filing on Sharyland and the Public Utility Commission of Texas.

Comment date: December 26, 2000, in accordance with Standard Paragraph E at the end of this notice.

11. Boston Edison Company

[Docket No. ER01-575-000]

Take notice that on December 4, 2000, Boston Edison Company (Boston Edison), tendered for filing a Standstill Agreement between itself and New England Power Company (NEP), as successor-in-interest to Montaup Electric Company (Montaup). The Standstill Agreement extends through February 5, 2001 the time in which NEP may institute a legal challenge to the 1998 true-up bill under Boston Edison's FERC Rate Schedule No. 69, governing sales to Montaup from the Pilgrim Nuclear Station.

Boston Edison requests waiver of the Commission's notice requirement to allow the Standstill Agreement to become effective December 5, 2000.

Comment date: December 26, 2000, in accordance with Standard Paragraph E at the end of this notice.

12. Cinergy Services, Inc.

[Docket No. ER01-580-000]

Take notice that on December 5, 2000, Cinergy Services, Inc. (Cinergy), tendered for filing a Service Agreement under Cinergy's Resale, Assignment or Transfer of Transmission Rights and Ancillary Service Rights Tariff (the Tariff) entered into between Cinergy and Allegheny Energy Supply Company, LLC. This Service Agreement has been executed by both parties and is to replace the existing unexecuted Service Agreement.

Comment date: December 26, 2000, in accordance with Standard Paragraph E at the end of this notice.

13. Cinergy Services, Inc.

[Docket No. ER01-581-000]

Take notice that on December 5, 2000, Cinergy Services, Inc. (Cinergy), tendered for filing a Service Agreement under Cinergy's Resale, Assignment or Transfer of Transmission Rights and Ancillary Service Rights Tariff (the Tariff) entered into between Cinergy and Florida Power & Light Company. This Service Agreement has been executed by both parties and is to replace the existing unexecuted Service Agreement.

Comment date: December 26, 2000, in accordance with Standard Paragraph E at the end of this notice.

14. Cinergy Services, Inc.

[Docket No. ER01-582-000]

Take notice that on December 5, 2000, Cinergy Services, Inc. (Cinergy), tendered for filing a Service Agreement under Cinergy's Resale, Assignment or Transfer of Transmission Rights and Ancillary Service Rights Tariff (the Tariff) entered into between Cinergy and Coastal Merchant Energy, L.P., formerly known as Engage Energy US, L.P. This Service Agreement has been executed by both parties and is to replace the existing unexecuted Service Agreement.

Comment date: December 26, 2000, in accordance with Standard Paragraph E at the end of this notice.

15. Cinergy Services, Inc.

[Docket No. ER01-583-000]

Take notice that on November 28, 2000, Cinergy Services, Inc. (Cinergy), tendered for filing a Service Agreement under Cinergy's Resale, Assignment or Transfer of Transmission Rights and Ancillary Service Rights Tariff (the Tariff) entered into between Cinergy and Entergy Power Marketing Corp. This Service Agreement has been executed by both parties and is to replace the existing unexecuted Service Agreement.

Comment date: December 26, 2000, in accordance with Standard Paragraph E at the end of this notice.

16. Cinergy Services, Inc.

[Docket No. ER01-584-000]

Take notice that on December 5, 2000, Cinergy Services, Inc. (Cinergy) tendered for filing a Service Agreement under Cinergy's Resale, Assignment or Transfer of Transmission Rights and Ancillary Service Rights Tariff (the Tariff) entered into between Cinergy and Williams Energy Marketing & Trading Company. This Service Agreement has been executed by both parties and is to replace the existing unexecuted Service Agreement.

Comment date: December 26, 2000, in accordance with Standard Paragraph E at the end of this notice.

17. Cinergy Services, Inc.

[Docket No. ER01-587-000]

Take notice that on December 5, 2000, Cinergy Services, Inc. (Provider), tendered for filing a Firm Point-To-Point Service Agreement under Cinergy's Open Access Transmission Service Tariff (OATT) entered into between Provider and Cinergy Services, Inc., (Customer).

Provider and Customer are requesting an effective date of January 1, 2001.

Comment date: December 26, 2000, in accordance with Standard Paragraph E at the end of this notice.

18. Cinergy Services, Inc.

[Docket No. ER01-588-000]

Take notice that on December 5, 2000, Cinergy Services, Inc. (Cinergy), tendered for filing a Service Agreement under Cinergy's Resale, Assignment or Transfer of Transmission Rights and Ancillary Service Rights Tariff (the Tariff) entered into between Cinergy and Alliant Energy Corporate Services, Inc., (AECS).

Cinergy and AECS are requesting an effective date of November 1, 2000.

Comment date: December 26, 2000, in accordance with Standard Paragraph E at the end of this notice.

19. Cinergy Services, Inc.

[Docket No. ER01-589-000]

Take notice that on December 5, 2000, Cinergy Services, Inc. (Cinergy), tendered for filing a Service Agreement under Cinergy's Resale, Assignment or Transfer of Transmission Rights and Ancillary Service Rights Tariff (the Tariff) entered into between Cinergy and Strategic Energy L.L.C., (Strategic).

Cinergy and Strategic are requesting an effective date of November 1, 2000.

Comment date: December 26, 2000, in accordance with Standard Paragraph E at the end of this notice.

20. Central Vermont Public Service Corporation

[Docket No. ER01-590-000]

Take notice that on November 30, 2000, Central Vermont Public Service Corporation (CVPS), tendered for filing a letter stating that CVPS will not file a Forecast 2001 Cost Report for FERC Electric Tariff, Original Volume No. 3. No customers will take Tariff No. 3 transmission service during 2001 because such service was terminated effective December 31, 1999. CVPS provides transmission service under its FERC Electric Tariff, First Revised Volume No. 7.

Comment date: December 21, 2000, in accordance with Standard Paragraph E at the end of this notice.

21. Central Vermont Public Service Corporation

[Docket No. ER01-591-000]

Take notice that on November 30, 2000, Central Vermont Public Service Corporation (CVPS), tendered for filing a letter stating that CVPS will not file a Forecast 2001 Cost Report for FERC Electric Tariff, Original Volume No. 4, since there are no customers expected to take such service.

Comment date: December 21, 2000, in accordance with Standard Paragraph E at the end of this notice.

22. California Independent System Operator Corporation

[Docket No. ER01-593-000]

Take notice that on December 5, 2000, the California Independent System Operator Corporation, tendered for filing a Participating Generator Agreement between the ISO and Riverside County Waste Management Department for acceptance by the Commission.

The ISO states that this filing has been served on Riverside County Waste Management Department and the California Public Utilities Commission.

The ISO is requesting waiver of the 60-day notice requirement to allow the Participating Generator Agreement to be made effective November 30, 2000.

Comment date: December 26, 2000, in accordance with Standard Paragraph E at the end of this notice.

23. Northern Indiana Public Service Company

[Docket No. ER01-595-000]

Take notice that on December 5, 2000, Northern Indiana Public Service Company (Northern Indiana), tendered for filing a Service Agreement pursuant to its Wholesale Market-Based Rate Tariff with the Michigan Public Power Agency (MPPA).

Northern Indiana has requested an effective date of December 1, 2000.

Copies of this filing have been sent to MPPA, the Indiana Utility Regulatory Commission, and the Indiana Office of Utility Consumer Counselor.

Comment date: December 26, 2000, in accordance with Standard Paragraph E at the end of this notice.

24. Puget Sound Energy, Inc.

[Docket No. ER01-577-000]

Take notice that on December 4, 2000, Puget Sound Energy, Inc., as Transmission Provider, tendered for filing a Service Agreement for Firm Point-To-Point Transmission Service and a Service Agreement for Non-Firm Point-To-Point Transmission Service with Williams Energy Marketing & Trading Company (Williams), as Transmission Customer.

A copy of the filing was served upon Williams.

Comment date: December 26, 2000, in accordance with Standard Paragraph E at the end of this notice.

25. UGI Development Company

[Docket No. ER01-597-000]

Take notice that on December 5, 2000, UGI Development Company (UGID) tendered for filing a revised Wholesale Market-Based Rate Tariff. UGID requests an effective date of December 6, 2000. UGID also tendered for filing a Service Agreement under the revised Market-Based Rate Tariff for service to UGI Utilities.

Comment date: December 26, 2000, in accordance with Standard Paragraph E at the end of this notice.

26. Orion Power MidWest, L.P.

[Docket No. ER01-606-000]

Take notice that on December 7, 2000, Orion Power MidWest, L.P. (Orion Power MidWest), tendered for filing with the Federal Energy Regulatory Commission an Ancillary Services Agreement with Duquesne Light Company, designated as FERC Rate Schedule No. 10 for the sale of Regulation and Frequency Response, Operating Reserve—Spinning Reserve Service, Operating Reserve—Supplemental Reserve Service, and Reactive Supply and Voltage Control.

Comment date: December 22, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-31955 Filed 12-14-00; 8:45 am]

BILLING CODE 6717-01-P